DEPARTMENT OF ENERGY

Federal Energy Regulatory Commission

[Project No. 13339-000]

FFP Detroit 1, LLC d/b/a FFP Lock & Dam No. 10; Notice of Preliminary Permit Application Accepted for Filing and Soliciting Comment, Motions To Intervene, and Competing Applications

May 13, 2009.

On November 24, 2008, FFP Detroit 1, LLC d/b/a FFP Lock & Dam No. 10 filed an application, pursuant to section 4(f) of the Federal Power Act, proposing to study the feasibility of the Mississippi River Lock and Dam No. 10 Water Power Project (Lock & Dam 10 Project), to be located at River Mile 615.1 on the Mississippi River in Clayton County, Iowa, and Grant County, Wisconsin, and near the town of Guttenberg, IA. Also, the reservoir runs through a portion of the Upper Mississippi River National Wildlife and Fish Refuge.

The proposed Lock & Dam 10 Project would be integral with: (1) The existing 5,747-foot-long U.S. Army Corps of Engineers Lock & Dam No. 10 comprised of a 763-foot-long gated dam section with 4 roller gates and 8 tainter gates, and a 600 foot-long lock; and (2) an existing 33-mile-long reservoir extending from River Mile 615 to River Mile 648 at a normal pool elevation of 611.0 feet mean sea level.

The proposed project would consist of: (1) 30 Very Low Head (VHL) generating units and 85 hydrokinetic generating units totaling 15.9 megawatts (MW) installed capacity; (2) a new 69-kilovolt transmission line connected to an existing above ground local distribution system; and (3) appurtenant facilities. The project would have an estimated average annual generation of 81,200 megawatt-hours.

Applicant Contact: Mr. Daniel R. Irvin, Free Flow Power Corporation, 33 Commercial Street, Gloucester, MA 01930, phone (978) 252-7631.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13339) in the docket number field to access the document. For assistance, call toll-free 1-866-208-3372.

Kimberly D. Bose,
Secretary.

[FR Doc. E9-11791 Filed 5-20-09; 8:45 am]

BILLING CODE 6717-01-P